ENVIRONMENTAL PROTECTION AGENCY

[EPA-HQ-OPP-2009-0886; FRL-9196-6]

Agency Information Collection Activities; Submission to OMB for Review and Approval; Comment Request; Submission of Unreasonable Adverse Effects Information Under FIFRA Section 6(a)(2); EPA ICR No. 1204.11, OMB Control No. 2070-0039

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before October 7, 2010.

ADDRESSES: Submit your comments, referencing Docket ID No. EPA-HQ-OPP-2009-0886, to (1) EPA online using http://www.regulations.gov (our preferred method), or by mail to: EPA Docket Center, Environmental Protection Agency, Pesticide Public Regulatory Docket at Potomac Yard, 7502P, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Cameo G. Smoot, Field and External Affairs Division, Office of Pesticide Programs, 7506P, Environmental Protection Agency, 1200 Pennsylvania Ave., NW., Washington, DC 20460; telephone number: 703-305-5454; fax number: 703-305-5884; e-mail address: smoot.cameo@epa.gov.

SUPPLEMENTARY INFORMATION: EPA has submitted the following ICR to OMB for review and approval according to the Paperwork Reduction Act (PRA)(44 U.S.C. 3501 et seq.), and procedures prescribed in 5 CFR 1320.12. On February 24, 2010, EPA sought comments on the renewal ICR, (75 FR 8336), pursuant to 5 CFR 1320.8(d). EPA received no comments during the comment period. Any additional comments on this ICR should be submitted to EPA and OMB within 30 days of this notice.

EPA has established a public docket for this ICR under Docket ID No. EPA-OPP-2009-0886, which is available for online viewing at http://www.regulations.gov, or in person viewing at the Pesticides Public Regulatory Docket, One Potomac Yard, 2777 S. Crystal Drive, Room S-4400 Arlington, VA, 22202. The Pesticide Public Reading Room is open from 8 a.m. to 4:00 p.m., Monday through Friday, excluding legal holidays. The telephone number for the Reading Room is 703-305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Submission of Unreasonable Adverse Effects Information under FIFRA Section 6(a)(2).

ICR numbers: EPA ICR No. 1204.11, OMB Control No. 2070.0039.

ICR Status: The current OMB approval for this ICR is scheduled to expire on October 31, 2010. Under OMB regulations, the Agency may continue to conduct or sponsor the collection of information while this submission is pending at OMB. This ICR is for an ongoing information collection activity. An Agency may not conduct or sponsor, and a person is not required to respond to, a collection of information, unless it displays a currently valid OMB control number. The OMB control numbers for EPA's regulations in title 40 of the CFR, after appearing in the Final Rule and in the Federal Register when approved, are listed in 40 CFR part 9 or by other appropriate means, such as on the related collection instrument or form, if applicable.

Abstract: Section 6(a)(2) of the Federal Insecticide, Fungicide and Rodenticide Act (FIFRA), requires pesticide registrants to submit information to the Agency which may be relevant to the balancing of the risks and benefits of a pesticide product. The statute requires the registrant to submit any factual information that it acquires regarding adverse effects associated with its pesticidal products, and it is up to the Agency to determine whether or not that factual information constitutes an unreasonable adverse effect. In order to limit the amount of less meaningful information that might be submitted to the Agency, the EPA has limited the scope of factual information that the registrant must submit. The agency's regulations at 40 CFR part 159 provide a detailed description of the reporting obligations of registrants under FIFRA section 6(a)(2).

Burden Statement: The annual public reporting and recordkeeping burden for this collection of information is estimated to average about 117 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Pesticide Registrants.

Estimated Total Number of Respondents: 1733.

Frequency of Response: As necessary.

Estimated Total Annual Hour Burden: 203,236.

Estimated Total Annual Cost: $11,793,027.

Changes in the Estimates: There is an increase of 35,920 hours in the total estimated burden currently identified in the OMB Inventory of Approved ICR Burdens. This adjustment reflects the increase of the number of registrants of active products (1,733 versus 1,720) and an increase in the estimated burden to account for additional employees being trained.

Dated: August 27, 2010.
John Moses,
Director, Collection Strategies Division.

[FR Doc. 2010-22187 Filed 9-3-10; 8:45 am]

BILLING CODE 6560-50-P